ENVIRONMENTAL PROTECTION AGENCY

[EPA-HQ-OW-2018-0079] [ER-FRL-9037-7]

Availability of an Environmental Assessment (EA) and Finding of No Significant Impact (FONSI)

AGENCY: Environmental Protection Agency (EPA).

ACTION: Environmental Assessment (EA)/Finding of No Significant Impact (FONSI).

SUMMARY: Pursuant to the National Environmental Policy Act (NEPA), the Council on Environmental Quality's NEPA regulations, and EPA's regulations for implementing NEPA, EPA has prepared an Environmental Assessment (EA) to analyze the potential environmental impacts related to the issuance of credit assistance to the Indiana Finance Authority (IFA) for State Revolving Fund (SRF) Loans under the Water Infrastructure Finance and Innovation Act (WIFIA) program. The EA evaluates the potential environmental impacts of water infrastructure projects funded under the WIFIA credit assistance program in compliance with NEPA and the required environmental cross-cutters and other federal, state, and local environmental reviews. Based on the environmental impact analysis in the EA, EPA has made a preliminary determination that no significant environmental impacts are anticipated from the issuance of the credit assistance to IFA. This notice initiates the 30-day review period and invites comments from Federal, State, and local agencies, Indian tribes, and the public regarding EPA's preliminary determination.

DATES: Comments must be received by March 25, 2018.

ADDRESSES: Submit your comments, identified by Docket ID No. EPA-HQ-OW-2018-0079 to the Federal eRulemaking Portal: Go to http://www.regulations.gov. Please follow the online instructions for submitting comments. Once submitted, comments cannot be edited or withdrawn. The EPA may publish public comments received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Danusha Chandy, Water Infrastructure Division, Office of Wastewater Management, WIFIA Program, Mail Code: 4201T, Environmental Protection Agency, 1200 Pennsylvania Avenue NW, Washington, DC 20460; telephone number: 202-564-2165; email address chandy.danusha@epa.gov.

SUPPLEMENTARY INFORMATION: EPA is seeking public comment regarding its preliminary Finding of No Significant Impact (FONSI) to document its determination that no significant environmental impacts are anticipated from the issuance of credit assistance to IFA for SRF Loans under the WIFIA program. EPA invites the public to submit comments through Regulations.gov during the 30-day comment period following the publication of this notice in the Federal Register.

Congress enacted the WIFIA as part of the Water Resources Reform and Development Act of 2014, as amended by sec. 1445 of Public Law 114-94 [1] and codified at 33 U.S.C. 3901-3914. WIFIA establishes a new federal credit program for water infrastructure projects to be administered by EPA.

The proposed federal action under consideration in this EA is approving or denying IFA's application by either issuing or not issuing a WIFIA loan. The IFA provides loans for the design, construction, operation, and maintenance of eligible water and wastewater infrastructure projects as described in section 603(c) of the Federal Water Pollution Control Act (33 U.S.C. 1383(c)) and section 1452(a)(2) of the Safe Drinking Water Act (42 U.S.C. 300j-12(a)(2)). IFA applied for a WIFIA loan to help fund the 2017 3rd Quarter Project Priority Lists for the Drinking Water SRF (DWSRF) and Clean Water SRF (CWSRF) Loan Programs for projects applying for financial assistance in State Fiscal Year 2017. The proposed action involves the planning, design, construction, operation, and maintenance for a wide range of water and wastewater infrastructure projects, which are eligible for WIFIA credit assistance.

The environmental review process, which is documented by the EA, indicates that no potential significant adverse environmental impacts are anticipated from the proposed action. The EA, which analyzed the potential environmental impacts of issuing of credit assistance to IFA for SRF Loans under the WIFIA program, considered the potential environmental impacts from water and waste water infrastructure projects.

Based on the environmental impact analysis in the EA, EPA has determined that no significant environmental impacts are anticipated from the issuance of credit assistance to IFA for SRF Loans and the proposed action does not constitute a major Federal action significantly affecting the quality of the human environment, making the preparation of an Environmental Impact Statement (EIS) unnecessary. Therefore, EPA is issuing a preliminary FONSI.

Dated: February 20, 2018.
Kelly Knight,
Director, NEPA Compliance Division, Office of Federal Activities.

[FR Doc. 2018-03730 Filed 2-22-18; 8:45 am]

BILLING CODE 6560-50-P